DEPARTMENT OF THE INTERIOR

Bureau of Land Management

[CA-180]

Cancellation of Scheduled Meeting of the Central California Resource Advisory Council

ACTION: Cancellation of public meeting .

SUMMARY: The meeting of the Central California Advisory Council scheduled for March 11 and 12, 2005, as announced in the Federal Register on February 15, 2005 (Volume 70, Number 30, Page 7757) is cancelled for logistical reasons, and will be rescheduled for July.

FOR FURTHER INFORMATION CONTACT: Deane Swickard, Field Manager, 63 Natoma Street, Folsom, CA 95630, telephone (916) 985-4474.

SUPPLEMENTARY INFORMATION: The twelve-member Central California Resource Advisory Council advises the Secretary of the Interior, through the Bureau of Land Management, on a variety of public land issues associated with public land management in Central California. The meeting will be rescheduled for July in the Sacramento region on a date yet unspecified. The rescheduled meeting will be announced in the Federal Register.

Charge Code: CA 180-1430-HN.

Dated: February 23, 2005.
D.K. Swickard,
Folsom Field Office Manager.

[FR Doc. 05-3890 Filed 2-28-05; 8:45 am]

BILLING CODE 4310-40-P